DEPARTMENT OF LABOR

Employment and Training Administration

[TA-W-51,611B and TA-W-51,611C]

National Steel Corporation, United States Steel Corporation, Great Lakes Operations, Including Leased Workers of Vanguard Services, Inc., Employed by TMH, Ecorse, Michigan; National Steel Corporation, United States Steel Corporation, Midwest Operations, Including Leased Workers of Vanguard Services, Inc., Employed by TMH, Portage, Indiana; Amended Certification Regarding Eligibility To Apply for Worker Adjustment Assistance

In accordance with section 223 of the Trade Act of 1974 (19 USC 2273) the Department of Labor issued a Certification of Eligibility to Apply for Worker Adjustment Assistance on July 9, 2003, applicable to workers of National Steel Corporation, Great Lakes Operations, Ecorse, Michigan and Midwest Operations, Portage, Indiana. The notice was published in the Federal Register on July 22, 2003 (68 FR 43371).

At the request of the petitioners, the Department reviewed the certification for workers of the subject firm. The workers are engaged in the production of flat rolled steel.

New information shows that leased workers of Vanguard Services, Inc. were employed at the Great Lakes Operations, Ecorse, Michigan and Midwest Operations, Portage, Indiana locations of National Steel Corporation. Workers of Vanguard Services, employed by TMH, provide truck drivers to TMH, the trucking company for National Steel Corporation.

Accordingly, the Department is amending the certification to properly reflect this matter.

The intent of the Department's certification is to include all workers of National Steel Corporation who were adversely affected by increased imports.

The amended notice applicable to TA-W-51,611B and TA-W-51,611C are hereby issued as follows:

All workers of National Steel Corporation (NSC), United States Steel Corporation, Great Lakes Operations, Ecorse, Michigan, including leased workers of Vanguard Services, Inc., employed by TMH, providing truck drivers to TMH at National Steel Corporation (NSC), United States Steel Corporation, Great Lakes Operations, Ecorse, Michigan (TA-W-51,611B); and, National Steel Corporation, United States Steel Corporation, Midwest Operations, Portage, Indiana, including leased workers of Vanguard Services, Inc., employed by TMH, providing truck drivers to TMH at National Steel Corporation (NSC), United States Steel, Midwest Operations, Portage, Indiana (TA-W-51,611C) who became totally or partially separated from employment on or after April 8, 2002, through July 9, 2005, are eligible to apply for adjustment assistance under section 223 of the Trade Act of 1974.

Signed at Washington, DC this 14th day of January 2004.
Elliott S. Kushner,
Certifying Officer, Division of Trade Adjustment Assistance.

[FR Doc. E4-138 Filed 1-27-04; 8:45 am]

BILLING CODE 4510-13-P